DEPARTMENT OF TRANSPORTATION

Federal Aviation Administration

14 CFR Part 39

[Docket No. FAA-2014-1001; Directorate Identifier 2014-CE-034-AD; Amendment 39-18103; AD 2015-04-01]

RIN 2120-AA64

Airworthiness Directives; Short Brothers & Harland Ltd. Airplanes

AGENCY: Federal Aviation Administration (FAA), DOT.

ACTION: Final rule; correction.

SUMMARY: The FAA is correcting an airworthiness directive (AD) that published in the Federal Register. That AD applies to all Short Brothers & Harland Ltd. Model SC-7 Series 3 airplanes. The amendment number in the Agency Identification Numbers in the preamble section of the AD is incorrect. Although no other part of the preamble or regulatory information has been corrected, we are publishing the entire rule in the Federal Register.

DATES: This final rule is effective March 30, 2015.

ADDRESSES: You may examine the AD docket on the Internet at http://www.regulations.gov by searching for and locating Docket No. FAA-2014-1001; or in person at Document Management Facility, U.S. Department of Transportation, Docket Operations, M-30, West Building Ground Floor, Room W12-140, 1200 New Jersey Avenue SE., Washington, DC 20590.

For service information identified in this AD, contact Short Brothers & Harland Ltd. service information identified in this proposed AD, contact Airworthiness, Short Brothers PLC, P.O. Box 241, Airport Road, Belfast, BT3 9DZ Northern Ireland, United Kingdom; phone: +44-2890-462469, fax: 44-2890-733647, email: michael.mulholland@aero.bombardier.com, internet: None; and for SAFRAN Messier-Buggatti-Dowty service information contact Messier-Dowty Limited, Cheltenham Road, Gloucester GL2 9QH, ENGLAND; phone: +44(0)1452 712424; fax: +44(0)1452 713821; email: americacsc@safranmbd.com, Internet: http://www.safranmbd.com. You may view this referenced service information at the FAA, Small Airplane Directorate, 901 Locust, Kansas City, Missouri 64106. For information on the availability of this material at the FAA, call (816) 329-4148. It is also available on the Internet at http://www.regulations.gov by searching for and locating Docket No. FAA-2014-1001.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov.

SUPPLEMENTARY INFORMATION: Airworthiness Directive 2015-04-01, Amendment 39-18003 (80 FR 9382, February 23, 2015), currently requires a visual inspection of the NLG sliding tube and a fluorescent penetrant inspection of the sliding tube. If any crack is detected during either inspection, before further flight, obtain FAA-approved repair instructions approved specifically for compliance with this AD by reporting the findings, and incorporating those instructions for Short Brothers & Harland Ltd. Model SC-7 Series 3 airplanes, all serial numbers, certificated in any category.

As published, the amendment number in the Agency Identification Numbers in the preamble section of the AD is incorrect. It has been corrected in this document.

Although no other part of the preamble or regulatory information has been corrected, we are publishing the entire rule in the Federal Register.

The effective date of this AD remains March 30, 2015.

PART 39—AIRWORTHINESS DIRECTIVES

1. The authority citation for part 39 continues to read as follows:

Authority: 49 U.S.C. 106(g), 40113, 44701.

§ 39.13 [Amended]

2. The FAA amends § 39.13 by adding the following new AD:

2015-04-01 Short Brothers & Harland Ltd: Amendment 39-18103; Docket No. FAA-2014-1001; Directorate Identifier 2014-CE-034-AD.

(a) Effective Date

This airworthiness directive (AD) becomes effective on March 30, 2015.

(b) Affected ADs

None.

(c) Applicability

This AD applies to Short Brothers & Harland Ltd. Model SC-7 Series 3 airplanes, all serial numbers, certificated in any category.

(d) Subject

Air Transport Association of America (ATA) Code 32: Landing Gear.

(e) Reason

This AD was prompted by mandatory continuing airworthiness information (MCAI) originated by an aviation authority of another country to identify and correct an unsafe condition on an aviation product. The MCAI describes the unsafe condition as fatigue cracking which could lead to structural failure of the nose landing gear (NLG). We are issuing this AD to detect and correct fatigue cracking which, if not detected and corrected, could lead to structural failure of the NLG, possibly resulting in loss of control of the airplane during take-off or landing.

(f) Actions and Compliance

Unless already done, comply with this AD within the compliance times specified in paragraphs (f)(1) through (f)(5) of this AD.

(1) Within 30 days after March 30, 2015 (the effective date of this AD), accomplish a visual inspection of the NLG sliding tube following the instructions of paragraph 3.A of SAFRAN Messier-Buggatti-Dowty Service Bulletin No. 32-17M, dated November 1, 2014.

Note 1 to paragraphs (f)(1), (f)(2), (f)(4), and (f)(5) of this AD: Instructions provided by SAFRAN Messier-Buggatti-Dowty Service Bulletin No. 32-17M, dated November 1, 2014, are referenced in Shorts Service Bulletin Number 32-74, dated November 1, 2014.

(2) Within 90 days after March 30, 2015 (the effective date of this AD), do a fluorescent penetrant inspection of the sliding tube following the instructions of paragraph 3.B of SAFRAN Messier-Buggatti-Dowty Service Bulletin No. 32-17M, dated November 1, 2014.

(3) If any crack is detected during the inspection required by paragraph (f)(1) or (f)(2) of this AD, before further flight, obtain FAA-approved repair instructions approved specifically for compliance with this AD by reporting the findings to Short Brothers & Harland Ltd. and incorporating those instructions. You can find contact information for Short Brothers & Harland Ltd. in paragraph (h) of this AD.

(4) Within 30 days after any inspection required by paragraphs (f)(1) and (f)(2) of this AD or within 30 days after March 30, 2015 (the effective date of this AD), whichever occurs later, report the inspection results to Short Brothers & Harland Ltd. by completing the Inspection Results Proforma following the instructions of paragraph 3.C.(2) of SAFRAN Messier-Buggatti-Dowty Service Bulletin No. 32-17M, dated November 1, 2014. You can find contact information for Short Brothers & Harland Ltd. in paragraph (h) of this AD.

(5) From March 30, 2015 (the effective date of this AD), you may install a sliding tube on an NLG provided that, before next flight after installation, the NLG sliding tube passes the inspections in paragraphs (f)(1) and (f)(2) of this AD following the instructions of paragraph 3 of SAFRAN Messier-Buggatti-Dowty Service Bulletin No. 32-17M, dated November 1, 2014.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2014-0246, dated November 12, 2014; and Shorts Service Bulletin Number 32-74, dated November 1, 2014, for related information. The MCAI can be found in the AD docket on the Internet at: http://www.regulations.gov/#!documentDetail;D=FAA-2014-1001-0002. For Short Brothers & Harland Ltd. service information identified in this AD, contact Airworthiness, Short Brothers PLC, P.O. Box 241, Airport Road, Belfast, BT3 9DZ Northern Ireland, United Kingdom; phone: +44-2890-462469, fax: 44-2890-733647, email: michael.mulholland@aero.bombardier.com, internet: None.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) SAFRAN Messier-Buggatti-Dowty Service Bulletin No. 32-17M, dated November 1, 2014.

(ii) Reserved.

(3) For SAFRAN Messier-Buggatti-Dowty service information identified in this AD, contact Messier-Dowty Limited, Cheltenham Road, Gloucester GL2 9QH, ENGLAND; phone: +44(0)1452 712424; fax: +44(0)1452 713821; email: americacsc@safranmbd.com, Internet: http://www.safranmbd.com.

(4) You may view this service information at the FAA, Small Airplane Directorate, 901 Locust, Kansas City, Missouri 64106. For information on the availability of this material at the FAA, call (816) 329-4148. In addition, you can access this service information on the Internet at http://www.regulations.gov by searching for and locating Docket No. FAA-2014-1001.

(6) You may view this service information that is incorporated by reference at the National Archives and Records Administration (NARA). For information on the availability of this material at NARA, call 202-741-6030, or go to: http://www.archives.gov/federal-register/cfr/ibr-locations.html.

Issued in Kansas City, Missouri, on March 11, 2015.
Robert Busto,
Acting Manager, Small Airplane Directorate, Aircraft Certification Service.

[FR Doc. 2015-06235 Filed 3-18-15; 8:45 am]

BILLING CODE 4910-13-P